DEPARTMENT OF THE INTERIOR

Fish and Wildlife Service

[FWS-R8-ES-2010-N047; 80221-1112-0000-F2]

San Diego County Water Authority Natural Communities Conservation Program/Habitat Conservation Plan, San Diego and Riverside Counties, CA

AGENCY: Fish and Wildlife Service, Interior.

ACTION: Notice of corrected public meeting dates.

SUMMARY: We, the U.S. Fish and Wildlife Service (Service), advise the public of corrections to meeting dates we previously announced in error in the Federal Register on March 4, 2010. That previous notice announced the availability of a draft environmental impact report (EIR)/environmental impact statement (EIS), receipt of incidental take permit application, and notice of public meetings for the San Diego County Water Authority's (Water Authority/Applicant) draft Natural Communities Conservation Plan (NCCP)/Habitat Conservation Plan (HCP) prepared in application to us for an incidental take permit under the Endangered Species Act of 1973, as amended (Act).

DATES: Comments: Please send written comments on or before June 2, 2010.

Meetings: Two public meetings have been scheduled for the EIR, and we will accept comments for the EIS at these meetings. These public meetings will be held on the following dates:

1. March 17, 2010, 7 p.m. to 9 p.m., San Diego, CA.

2. March 18, 2010, 7 p.m. to 9 p.m., Escondido, CA.

ADDRESSES: Comments: Please send written comments to Mr. Jim Bartel, Field Supervisor, U.S. Fish and Wildlife Service, Carlsbad Fish and Wildlife Office, 6010 Hidden Valley Road, Suite 101, Carlsbad, CA 92011. You may also submit comments by facsimile to (760) 431-5902.

Information and comments related specifically to the draft EIR and the California Environmental Quality Act should be submitted to Mr. Bill Tippets, San Diego County Water Authority, 4677 Overland Avenue, San Diego, CA 92123.

Meetings: The correct public meeting locations are:

1. San Diego: San Diego County Water Authority, 4677 Overland Avenue, San Diego, CA 92123.

2. Escondido: Escondido City Hall, Mitchell Room, 201 North Broadway, Escondido, CA 92025.

FOR FURTHER INFORMATION CONTACT: Ms. Karen A. Goebel, Assistant Field Supervisor, at the Carlsbad Fish and Wildlife Office address above; telephone (760) 431-9440.

SUPPLEMENTARY INFORMATION: We advise the public of corrected meeting dates we previously announced in error in the Federal Register on March 4, 2010 (75 FR 9921). See DATES and ADDRESSES for corrected meeting dates and locations.

The Applicant is requesting a permit to incidentally take 37 animal species and seeking assurances for 27 plant species (including 19 federally listed species) during the term of the proposed 55-year permit. The permit is needed to authorize take of listed animal species due to construction, operations, and maintenance activities in the approximately 992,000-acre (401,450-hectare) Plan Area in western San Diego County and south-central Riverside County, California. We are requesting public comment on the Draft NCCP/HCP, Draft Implementing Agreement, and Draft EIR/EIS. For more background information on the application, and where to obtain documents for review, see our March 4, 2010, notice.

Reasonable Accommodation

The public meetings are physically accessible to people with disabilities. Please make requests for specific accommodations to Bill Tippetts, San Diego County Water Authority, at (858) 522-6784, at least 5 working days prior to the meeting date.

Authority

We provide this notice under section 10(a) of the Act and Service regulations for implementing the National Environmental Policy Act of 1969 (40 CFR 1506.6). We will evaluate the application, associated documents, and comments submitted thereon to prepare a Final EIS. A permit decision will be made no sooner than 30 days after the publication of the Final EIS and completion of the Record of Decision.

Ken McDermond,
Deputy Regional Director, Pacific Southwest Region, Sacramento, California.

[FR Doc. 2010-5280 Filed 3-9-10; 8:45 am]

BILLING CODE 4310-55-P